DEPARTMENT OF JUSTICE

Antitrust Division

Notice Pursuant to the National Cooperative Research and Production Act of 1993—American Lumber Standards Committee

Notice is hereby given that, on September 20, 2004, pursuant to Section 6(a) of the National Cooperative Research and Production Act of 1993, 15 U.S.C. 4301 et seq. (“the Act”), American Lumber Standards Committee (“ALSC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Lumber Standards Committee, Germantown, MD. The nature and scope of ALSC's standards development activities are: maintenance of Department of Commerce P.S. 20-99—American Softwood Lumber Standard (under revision), including standards making activities of the National Grading Rule Committee and Board of Review, thereunder, and development of standards and policies for the Committee's Untreated Wood Program, Treated Wood Program and Wood Packaging Program.

Dorothy B. Fountain,
Deputy Director of Operations, Antitrust Division.

[FR Doc. 05-3922 Filed 2-28-05; 8:45 am]

BILLING CODE 4410-11-M